FEDERAL EMERGENCY MANAGEMENT AGENCY

44 CFR Part 65

[Docket No. FEMA-B-7400]

Changes in Flood Elevation Determinations

AGENCY: Federal Emergency Management Agency (FEMA).

ACTION: Interim rule.

SUMMARY: This interim rule lists communities where modification of the Base (1-percent-annual-chance) Flood Elevations is appropriate because of new scientific or technical data. New flood insurance premium rates will be calculated from the modified Base Flood Elevations for new buildings and their contents.

DATES: These modified Base Flood Elevations are currently in effect on the dates listed in the table below and revise the Flood Insurance Rate Maps in effect prior to this determination for each listed community.

From the date of the second publication of these changes in a newspaper of local circulation, any person has ninety (90) days in which to request through the community that the Associate Director for Mitigation reconsider the changes. The modified elevations may be changed during the 90-day period.

ADDRESSES: The modified Base Flood Elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified Base Flood Elevations are not listed for each community in this interim rule. However, the address of the Chief Executive Officer of the community where the modified Base Flood Elevation determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified Base Flood Elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in Base Flood Elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified Base Flood Elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Maricopa | Unincorporated Areas | April 7, 2000, April 14, 2000, Arizona Republic | The Honorable Andrew Kunasek, Chairperson, Maricopa County Board of Supervisors, 301 West Jefferson, 10th Floor, Phoenix, Arizona 85003 | Feb. 29, 2000 | 040037
Pima | City of Tucson | April 18, 2000, April 25, 2000, Tucson Citizen | The Honorable Robert E. Walkup, Mayor, City of Tucson, P.O. Box 27210, Tucson, Arizona 85726 | July 24, 2000 | 040076
Pima | Unincoporated Areas | April 18, 2000, April 25, 2000, Arizona Daily Star | The Honorable Sharon Bronson, Chairperson, Pima County Board of Supervisors, 130 West Congress, 11th Floor, Tucson, Arizona 85701 | July 24, 2000 | 040073
Arkansas: Sebastian | City of Fort Smith | April 21, 2000, April 28, 2000, Southwest Times Record | The Honorable Ray Baker, Mayor, City of Fort Smith, P.O. Box 1908, Fort Smith, Arkansas 72902 | Mar. 21, 2000 | 055013
California:
Contra Costa | City of Walnut Creek | April 5, 2000, April 12, 2000, Contra Costa Times | The Honorable Charlie Abrams, Mayor, City of Walnut Creek, 1666 North Main Street, Walnut Creek, California 94596-8039 | Mar. 8, 2000 | 065070
Riverside | City of Corona | April 19, 2000, April 26, 2000, The Press Enterprise | The Honorable Jeffrey P. Bennett, Mayor, City of Corona, P.O. Box 940, Corona, California 92882-0940 | Mar. 13, 2000 | 060250
Riverside | City of Norco | April 19, 2000, April 26, 2000, The Press Enterprise | The Honorable Frank Hall, Mayor, City of Norco, P.O. Box 428, Norco, California 92860-0428 | Mar. 13, 2000 | 060256
Colorado: Arapahoe | Unincorporated Areas | April 20, 2000, April 27, 2000, The Villager | The Honorable Steve Ward, Chairperson, Arapahoe County Board of Commissioners, 5334 South Prince Street, Littleton, Colorado 80166 | Mar. 13, 2000 | 080011
Nebraska: Thurston | Village of Pender | April 20, 2000, April 27, 2000, Pender Times | The Honorable Frank Appleton, Chairperson, Village of Pender Board of Trustees, P.O. Box S, Pender, Nebraska 68047 | July 26, 2000 | 310221
New Mexico: Bernalillo | City of Albuquerque | April 6, 2000, April 13, 200, Albuquerque Journal | The Honorable Jim Baca, Mayor, City of Albuquerque, P.O. Box 1293, Albuquerque, New Mexico 87103 | Feb. 29, 2000 | 350002
Okalahoma: Wagoner | City of Coweta | April 19, 2000, April 26, 2000, Coweta American | The Honorable Mike Dill, Mayor, City of Coweta, City Hall, P.O. Box 850, Coweta, Oklahoma 74429 | Mar. 10, 2000 | 400216
Texas:
Tarrant | City of Fort Worth | April 20, 2000, April 27, 2000, The Star-Telegram | The Honorable Kenneth Barr, Mayor, City of Fort Worth, 1000 Throckmorton Street, Fort Worth, Texas 76102-6311 | Mar. 24, 2000 | 480596
Tarrant | City of Keller | March 28, 2000, April 4, 2000, The Keller Citizen | The Honorable Dave Phillips, Mayor, City of Keller, P.O. Box 770, Keller, Texas 76244 | July 3, 2000 | 48602
Williamson | City of Austin | April 7, 2000, April 14, 2000, Austin American-Statement | The Honorable Kirk Watson, Mayor, City of Austin, 124 West Eighth Street, Suite 103, Austin 78701 | Mar. 1, 2000 | 480624
Williamson | Unincorporated Areas | April 7, 2000, April 14, 2000, Austin American-Stateman | The Honorable John Doerffler, County Judge, Williamson County, 710 Main Street, Suite 201, Georgetown, Texas 78626 | Mar. 1, 2000 | 481079

(Catalog of Federal Domestic Assistance No. 83.100, “Flood Insurance”)

Dated: October 16, 2000.
Michael J. Armstrong,
Associate Director for Mitigation.

[FR Doc. 00-27639 Filed 10-26-00; 8:45 am]

BILLING CODE 6718-04-P